ELECTION ASSISTANCE COMMISSION

Sunshine Act; Notice of Meeting

AGENCY: United States Election Assistance Commission.

ACTION: Notice of public meeting agenda.

DATE and time: Tuesday, March 14, 2006, 10 a.m.-1 p.m.

place: U.S. Election Assistance Commission, 1225 New York Ave., NW., Suite 1100, Washington, DC 2005 (Metro Stop: Metro Center).

agenda: The Commission will receive presentations on the National Voter Registration Act and will receive updates on other administrative matters.

This meeting will be open to the public.

FOR FURTHER INFORMATION CONTACT: Bryan Whitener, Telephone: (202) 566-3100.

Thomas R. Wilkey,
Executive Director, U.S. Election Assistance Commission.

[FR Doc. 06-1956 Filed 2-27-06; 12:44 pm]

BILLING CODE 6820-KF-M